DEPARTMENT OF COMMERCE

National Oceanic and Atmospheric Administration

RIN 0648-XY05

Fisheries of the Caribbean, Gulf of Mexico, and South Atlantic; Snapper and Grouper Off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf and South Atlantic Fisheries Foundation, Inc. If granted, the EFP will authorize the applicants, with certain conditions, to collect limited numbers of fish and invertebrates where possession and retention is restricted or prohibited by regulations in South Atlantic Federal waters. This study is intended to characterize catch and discard mortality within the South Atlantic commercial hook-and-line snapper-grouper fishery.

DATES: Comments must be received no later than 5 p.m., eastern time, on September 17, 2010.

ADDRESSES: You may submit comments on the application by any of the following methods:

• E-mail: Steve.Branstetter@noaa.gov. Include in the subject line of the e-mail comment the following document identifier: “FND_EFP”.

• Mail: Steve Branstetter, Southeast Regional Office, NMFS, 263 13th Avenue South, St. Petersburg, FL 33701.

• Fax: 727-824-5308.

The application and related documents are available for review upon written request to any of the above addresses.

FOR FURTHER INFORMATION CONTACT: Steve Branstetter, 727-824-5305; fax: 727-824-5308; e-mail: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of the Cooperative Research Program. The Cooperative Research Program is a means of involving commercial and recreational fishermen in the collection of fundamental fisheries information. Resource collection efforts support the development and evaluation of fisheries management and regulatory options.

The proposed collection for scientific research involves activities otherwise prohibited by regulations at 50 CFR 622 implementing the Fishery Management Plan for the Snapper-Grouper Fishery of the South Atlantic Region. The applicant requires authorization to collect limited numbers of snapper and grouper and other marine resources, where possession and retention is otherwise restricted or prohibited by regulations, for scientific research activities for a 24-month period beginning September 2010. Specimens would be collected from Federal waters off the east coast of Florida and Federal waters off the coasts of Georgia, South Carolina, and North Carolina. Sampling would occur during normal fishing operations of the commercial snapper-grouper vertical hook-and-line fishery. Sampling would occur year-round, collecting as many as 500 fish during the course of the sampling. Data collections for this study would support improved information about the catch, bycatch, discards, and discard mortality for species in the snapper-grouper complex. These data would provide insight on a stock's resilience to fishing, and would help refine estimates of long-term biological productivity of the stocks. Currently, these data are unavailable, and it is anticipated that project results would yield valuable data within this fishery.

NMFS finds this application warrants further consideration. Based on a preliminary review, NMFS intends to issue an EFP. The limited sampling program and associated sampling methodology listed in the EFP is not expected to impact the fishery stocks; the estimated 500 fish to be retained in the 2-year period represents a small fraction of the average annual landings. Similarly, the sampling program is not expected to have an impact on marine mammals or threatened or endangered species or their critical habitat in any manner that has not been considered in the 2006 biological opinion, the 2007 consultation regarding Acropora, and the 2008 listing of Acropora critical habitat, in regard to the existing fishery management plan. The biological opinion specifically addresses the impacts associated with EFPs. It considers fishing activities authorized under an EFP within the scope of the opinion, if those activities do not significantly increase the overall fishing effort within the fishery, and fishing is conducted by commercial or research vessels, using similar or identical fishing methods to those employed in the fishery.

Possible conditions the agency may impose on this permit, if it is indeed granted, include but are not limited to, a prohibition of conducting research within marine protected areas, marine sanctuaries, or special management zones, without additional authorization. Additionally, NMFS may prohibit the possession of Nassau or goliath grouper, and require any sea turtles taken incidentally during the course of fishing or scientific research activities to be handled with due care to prevent injury to live specimens, observed for activity, and returned to the water. The applicant's field personnel are considered designated agents of NMFS while conducting work under a NMFS-funded research grant. They are authorized to handle sea turtles encountered during the course of this study. A final decision on issuance of the EFP will depend upon a NMFS review of public comments received on the application, consultations with the affected states, the South Atlantic Fishery Management Council, and the U.S. Coast Guard, and a determination that it is consistent with all applicable laws.

Authority: 16 U.S.C. 1801 et seq.

Dated: August 13, 2010.
James P. Burgess,
Acting Director, Office of Sustainable Fisheries, National Marine Fisheries Service.

[FR Doc. 2010-20516 Filed 8-17-10; 8:45 am]

BILLING CODE 3510-22-S